ENVIRONMENTAL PROTECTION AGENCY

[FRL-7006-3]

Agency Information Collection Activities: Continuing Collection; Comment Request; Regulation of Fuels and Fuel Additives; Gasoline Volatility; Reporting Requirements for Refiners, Blenders, Importers, and Transferors of Gasoline Containing Ethanol, and Reporting Requirements for Parties Seeking a Testing Exemption

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Regulation of Fuels and Fuel Additives; Gasoline Volatility; Reporting Requirements for Refiners, Blenders, Importers, and Transferors of Gasoline Containing Ethanol, and Reporting Requirements for Parties Seeking a Testing Exemption (40 CFR 80.27), (EPA ICR Number 1367.06, OMB Control Number 2060-0178, expiration date: 12-31-01). Before submitting the ICR to OMB for review and approval, EPA is soliciting comments on specific aspects of the proposed information collection as described below.

DATES: Comments must be submitted on or before September 4, 2001.

ADDRESSES: Transportation and Regional Programs Division, Office of Transportation and Air Quality, Office of Air and Radiation, Mail Code 6406J, U.S. Environmental Protection Agency, 1200 Pennsylvania Avenue, NW., Washington, DC 20460-0001. A paper or electronic copy of the draft ICR may be obtained without charge by contacting the person listed below.

FOR FURTHER INFORMATION CONTACT: James W. Caldwell, (202) 564-9303, fax: (202) 565-2085, caldwell.jim@epa.gov.

SUPPLEMENTARY INFORMATION: Affected entities: Entities potentially affected by this action are those which produce, import, or transfer gasoline containing ethanol, or who wish to obtain a testing exemption.

Title: Regulation of Fuels and Fuel Additives; Gasoline Volatility; Reporting Requirements for Refiners, Blenders, Importers, and Transferors of Gasoline Containing Ethanol, and Reporting Requirements for Parties Seeking a Testing Exemption (40 CFR 80.27), EPA ICR Number 1367.06, OMB Control Number 2060-0178, expiring 12-31-01.

Abstract: Gasoline volatility, as measured by Reid Vapor Pressure (RVP) in pounds per square inch (psi), is controlled in the spring and summer in order to minimize evaporative hydrocarbon emissions from motor vehicles. RVP ranges generally from about 7 psi to 9 psi, depending on location. The addition of ethanol to gasoline increases the RVP by about 1 psi. Gasoline that contains at least 9 volume percent ethanol is subject to a standard that is 1 psi greater. As an aid to industry compliance and EPA enforcement, the product transfer document which accompanies a shipment of gasoline containing ethanol is required by regulation to contain a legible and conspicuous statement that the gasoline contains ethanol and the percentage concentration of ethanol. This is intended to deter the mixing within the distribution system, particularly in retail storage tanks, of gasoline which contains ethanol with gasoline which does not contain ethanol. Such mixing would likely result in a gasoline with an ethanol concentration of less than 9 volume percent but with an RVP above the standard. Parties wishing a testing exemption must submit certain information to EPA. An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates that there at 3,000,000 shipments annually of gasoline containing ethanol. Thus the required statement must be placed on 3,000,000 product transfer documents annually. Such documents are a customary business practice, so the burden is limited to the placement of the statement, which is generally computer-generated or hand-stamped. EPA estimates an average burden of 5 seconds per document, for a total annual burden for 3,000,000 documents of 4,170 hours. At an estimated industry labor cost of $60 per hour, EPA estimates the labor cost burden at $250,200 for about 1,000 parties which produce or import gasoline containing ethanol. Thus the cost per party is about $250 annually. There are no start-up costs, as they were incurred some years ago at the start of the program. There are no annualized capital costs and no operation and maintenance costs because the product transfer documents are in use for other reasons and there are no recordkeeping requirements. There are no purchase-of-services costs. There is no burden for transferors of gasoline containing ethanol because the product transfer document that accompanies each shipment is already handled as a customary business practice. It is estimated that EPA will receive 2 requests annually for testing exemptions, at 4 hours burden and $240 labor cost per request. An operating and maintenance cost for postage and copying of $10 per request is estimated. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 22, 2001.
Michael G. Shields,
Acting Director, Transportation and Regional Programs Division.

[FR Doc. 01-16688 Filed 7-2-01; 8:45 am]

BILLING CODE 6560-50-P